DEPARTMENT OF DEFENSE

Office of the Secretary

Defense Science Board Task Force on Improving Fuel Efficiency of Weapons Platforms

ACTION: Notice of meeting.

SUMMARY: The Defense Science Board Task Force on Improving Fuel Efficiency of Weapons Platforms will meet in closed session on June 10-21 at Carderock Division, Naval Surface Warfare Center, 9500 MacArthur Boulevard, West Bethesda, MD 20817-5700.

The mission of the Defense Science Board is to advise the Secretary of Defense and the Under Secretary of Defense for Acquisition and Technology on scientific and technical matters as they affect the perceived needs of the Department of Defense. At this meeting, The Task Force will review fuel-efficient technologies, including new or improved fuels, engines, Alternative Fueled Vehicles, and other advanced technologies and assess their operational, logistical, cost, and environmental impacts for a range of practical implementation scenarios.

Due to critical mission requirements in finalizing briefings for this Task Force, there is insufficient time to provide timely notice required by section 10(a)(2) of the Federal Advisory Committee Act and Subsection 101-.6.1015(g) of the GSA Final Rule on Federal Advisory Committee Management, 41 CFR part 101-6, which further requires publication at least 15 calendar days prior to the meeting of the Task Force on June 20-21, 2000.

Persons interested in further information should call Commander Brain D. Hughes, USN, at (703) 695-4157.

Dated: June 12, 2000.
L.M. Bynum,
Alternate OSD Federal Register Liaison Officer, Department of Defense.

[FR Doc. 00-15220 Filed 6-15-00; 8:45 am]

BILLING CODE 5001-10-M